DEPARTMENT OF COMMERCE

Bureau of the Census

Request for Nominations of Members To Serve on the Census Scientific Advisory Committee

AGENCY: Bureau of the Census, Department of Commerce.

ACTION: Notice of request for nominations.

SUMMARY: The Director of the Bureau of the Census (Director) (Census Bureau) is seeking nominations for the Census Scientific Advisory Committee (CSAC). The purpose of the CSAC is to provide advice to the Director of the Census Bureau on the full range of Census Bureau programs and activities including communications, decennial, demographic, economic, field operations, geographic, information technology, and statistics. The Director has determined that the work of the CSAC is in the public interest and relevant to the duties of the Census Bureau. Therefore, the Director is seeking nominations to fill vacancies on the CSAC. Additional information concerning the CSAC can be found by visiting the CSAC's website at: https://www.census.gov/about/cac/sac.html.

DATES: Nominations must be received on or before August 1, 2020. Nominations must contain a completed resume. The Census Bureau will retain nominations received after the August 1, 2020 date for consideration should additional vacancies occur. The resume must be sent to the address below.

ADDRESSES: Please submit nominations to the census.scientific.advisory .committee@census.gov (subject line 2020 CSAC Nominations”), or by letter submission to Kimberly L. Leonard, External Stakeholder Program Manager, Office of Program, Performance and Stakeholder Integration (PPSI), 2020 CSAC Nominations, Department of Commerce, U.S. Census Bureau, Room 2K137, 4600 Silver Hill Road, Washington, DC 20233.

FOR FURTHER INFORMATION CONTACT: Kimberly L. Leonard, External Stakeholder Program Manager, Office of Program, Performance and Stakeholder Integration (PPSI), Room 2K137, U.S. Census Bureau, 4600 Silver Hill Road, Washington, DC 20233, by telephone at 301-763-7281 or by email at Kimberly.L.Leonard@census.gov. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the Federal Advisory Committee Act (FACA), Title 5, United States Code, Appendix 2, Section 10, the Director of the Census Bureau is seeking nominations for the CSAC. The CSAC will operate under the provisions of the FACA and will report to the Secretary of the Department of Commerce through the Director of the Census Bureau.

The Census Bureau's Census Scientific Advisory Committee will advise the Director of the Census Bureau on the full range of Census Bureau programs and activities. The Advisory Committee will provide scientific and technical expertise from the following disciplines: demographics, economics, geography, psychology, statistics, survey methodology, social and behavioral sciences, information technology and computing, marketing and other fields of expertise, as appropriate, to address Census Bureau program needs and objectives.

Objectives and Duties

1. The CSAC advises the Director of the Census Bureau (Director) on the full range of Census Bureau programs and activities including communications, decennial, demographic, economic, field operations, geographic, information technology, and statisics.

2. The CSAC will address census policies, research and methodology, tests, operations, communications/messaging, and other activities to ascertain needs and best practices to improve censuses, surveys, operations, and programs.

3. The CSAC will provide formal review and feedback on internal and external working papers, reports, and other documents related to the design and implementation of census programs and surveys.

4. The CSAC will function solely as an advisory body and shall comply fully with the provisions of the FACA.

Membership

1. The CSAC consists of up to 21 members who serve at the discretion of the Director. The Census Bureau is seeking four qualified candidates to be considered for appointment.

2. The CSAC aims to have a balanced representation among its members, considering such factors as geography, age, sex, race, ethnicity, technical expertise, community involvement, and knowledge of census programs and/or activities. Individuals will be selected based on their expertise in or represenation of specific areas as needed by the Census Bureau.

3. The CSAC members will serve for a three-year term. All members will be reevaluated at the conclusion of each term with the prospect of renewal, pending the committee needs. Active attendance and participation in meetings and activities (e.g., conference calls and assignments) will be factors considered when determining term renewal or membership continuance. Members may be appointed for a second three-year term at the discretion of the Director.

4. Membership is open to persons who are not seated on other Census Bureau stakeholder entities (i.e., State Data Centers, Census Information Centers, Federal State Cooperative on Populations Estimates Program, other advisory committees, etc.). Members who have served on one Census Bureau Advisory committee may not be reappointed or serve on the CSAC until at least three years have passed from the termination of previous service.

5. Members will serve as “Special Government Employees (SGEs). SGEs will be subject to the ethics rules applicable to SGEs. Members will be individually advised of the capacity in which they will serve through their appointment letters. Committee members are selected from academia, public and private enterprise, and nonprofit organizations, which are further diversified by business type or industry, geography, and other factors.

Miscellaneous

1. Members of the CSAC serve without compensation, but receive reimbursement for committee-related travel and lodging expenses.

2. The CSAC meets at least twice a year, budget permitting, but additional meetings may be held as deemed necessary by the Census Bureau Director or Designated Federal Officer. All CSAC meetings are open to the public in accordance with the FACA.

Nomination Process

1. Nominations should satisfy the requirements described in the Membership section above.

2. Individuals, groups, and/or organizations may submit nominations on behalf of candidates. A summary of the candidate's qualifications (resume´ or curriculum vitae) must be included along with the nomination letter. Nominees must be able to actively participate in the tasks of the committee, including, but not limited to, regular meeting attendance, committee meeting discussant responsibilities, review of materials, as well as participation in conference calls, webinars, working groups, and/or special committee activities.

3. The Department of Commerce is committed to equal opportunity in the workplace and seeks diverse CSAC membership.

Dated: February 28, 2020.
Steven D. Dillingham,
Director, Bureau of the Census.

[FR Doc. 2020-04552 Filed 3-4-20; 8:45 am]

BILLING CODE 3510-07-P